NUCLEAR REGULATORY COMMISSION

[NRC-2009-0413]

Notice of Issuance of Regulatory Guide

AGENCY: Nuclear Regulatory Commission.

ACTION: Notice of Issuance and Availability of Regulatory Guide 1.11, Revision 1, “Instrument Lines Penetrating the Primary Reactor Containment.”

FOR FURTHER INFORMATION CONTACT: Mekonen M. Bayssie, Regulatory Guide Development Branch, Division of Engineering, Office of Nuclear Regulatory Research, U.S. Nuclear Regulatory Commission, Washington, DC 20555-0001, telephone (301) 251-7489 or e-mail Mekonen.Bayssie@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 1.11, Instrument Lines Penetrating the Primary Reactor Containment,” was issued with a temporary identification as Draft Regulatory Guide, DG-1225. This guide defines a basis that the staff of the NRC considers acceptable to implement the intent of General Design Criterion 55 and 56 with regard to instrument lines. This guide applies to light-water-cooled reactors with a primary containment.

II. Further Information

In September 2009, DG-1225 was published with a public comment period of 60 days from the issuance of the guide. A Summary of the Public Comment Resolution is available through the NRC's Agencywide Documents Access and Management System (ADAMS) Accession No. ML100250972. Electronic copies of Regulatory Guide 1.11, Revision 1 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 25th day of March 2010.
For the Nuclear Regulatory Commission.
Andrea D. Valentin,
Chief, Regulatory Guide Development Branch, Division of Engineering, Office of Nuclear Regulatory Research.

[FR Doc. 2010-7391 Filed 3-31-10; 8:45 am]

BILLING CODE 7590-01-P